DEPARTMENT OF VETERANS AFFAIRS

[OMB Control No. 2900-0548]

Proposed Information Collection (Board of Veterans' Appeals Customer Satisfaction With Hearing Survey) Activity; Comment Request

AGENCY: Board of Veterans' Appeals, Department of Veterans Affairs.

ACTION: Notice.

SUMMARY: The Board of Veterans' Appeals (BVA), Department of Veterans Affairs (VA), is announcing an opportunity for public comment on the proposed collection of certain information used by the agency. Under the Paperwork Reduction Act (PRA) of 1995, Federal agencies are required to publish notice in the Federal Register concerning each proposed collection of information, including each proposed extension of a currently approved collection, and allow 60 days for public comment in response to the notice. This notice solicits comments for information needed to assess the effectiveness of current procedures used in conducting hearings.

DATES: Written comments and recommendations on the proposed collection of information should be received on or before December 9, 2008.

ADDRESSES: Submit written comments on the collection of information through http://www.Regulations.gov or to Sue Hamlin (01C), Department of Veterans Affairs, 810 Vermont Avenue, NW., Washington, DC 20420 or e-mail: sue.hamlin@mail.va.gov. Please refer to “OMB Control No. 2900-0548” in any correspondence. During the comment period, comments may be viewed online through the Federal Docket Management System (FDMS) at http://www.Regulations.gov.

FOR FURTHER INFORMATION CONTACT Sue Hamlin at (202) 461-8194.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, BVA invites comments on: (1) Whether the proposed collection of information is necessary for the proper performance of BVA's functions, including whether the information will have practical utility; (2) the accuracy of BVA's estimate of the burden of the proposed collection of information; (3) ways to enhance the quality, utility, and clarity of the information to be collected; and (4) ways to minimize the burden of the collection of information on respondents, including through the use of automated collection techniques or the use of other forms of information technology.

Title: Board of Veterans' Appeals Customer Satisfaction with Hearing Survey, VA Form 0745.

OMB Control Number: 2900-0548.

Type of Review: Extension of a currently approved collection.

Abstract: VA Form 0745 is completed by appellants at the conclusion their hearing with the Board of Veterans' Appeals. The data collected will be used to assess the effectiveness of current hearing procedures used in conducting hearings and to develop better methods of serving veterans and their families.

Affected Public: Individuals or households.

Estimated Annual Burden: 110 hours.

Estimated Average Burden per Respondent: 6 minutes.

Frequency of Response: On occasion.

Estimated Number of Respondents: 1,102.

Dated: October 3, 2008.
By direction of the Secretary.
Denise McLamb,
Records Management Service.

[FR Doc. E8-24145 Filed 10-9-08; 8:45 am]

BILLING CODE 8320-01-P